INTERNATIONAL TRADE COMMISSION

[Investigations Nos. 701-TA-417-419 and 731-TA-953, 954, 956-959, 961, and 962 (Final)]

Carbon and Certain Alloy Steel Wire Rod From Brazil, Canada, Germany, Indonesia, Mexico, Moldova, Trinidad and Tobago, and Ukraine

Determinations

On the basis of the record ¹ developed in the subject investigations, the United States International Trade Commission determines, pursuant to section 705(b) of the Tariff Act of 1930 (19 U.S.C. 1671d(b)) (the Act), that an industry in the United States is materially injured by reason of imports from Brazil and Canada of carbon and certain alloy steel wire rod ² that have been found by the Department of Commerce (Commerce) to be subsidized by the Governments of Brazil and Canada. The Commission also determines, pursuant to section 735(b) of the Act (19 U.S.C. 1673d(b)), that an industry in the United States is materially injured by reason of imports from Brazil, Canada, Indonesia, Mexico, Moldova, Trinidad and Tobago, and Ukraine of carbon and certain alloy steel wire rod that have been found by Commerce to be sold in the United States at less than fair value (LTFV).³ The Commission further determines, pursuant to section 771(24)(A) of the Act (19 U.S.C. 1677(24)(A)) that imports of carbon and certain alloy steel wire rod from Germany that have been found by Commerce to be subsidized by the Government of Germany and sold in the United States at LTFV are negligible, and its investigations with regard to that country are thereby terminated pursuant to sections 705(b) and 735(b) of the Act.⁴ With regard to imports of the subject merchandise from Moldova and Ukraine that were subject to affirmative critical circumstances determinations by Commerce, the Commission determines that critical circumstances do not exist.⁵

¹ The record is defined in 207.2(f) of the Commission's Rules of Practice and Procedure (19 CFR 207.2(f)).

² The merchandise covered by these investigations is certain hot-rolled products of carbon steel and alloy steel, in coils, of approximately round cross section, 5.0 mm or more but less than 19.0 mm, in solid cross-sectional diameter. Specifically excluded are steel products possessing the above-noted physical characteristics and meeting the Harmonized Tariff Schedule of the United States (HTS) definitions for (a) stainless steel, (b) tool steel, (c) high nickel steel, (d) ball bearing steel, and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium). Also excluded from the scope are grade 1080 tire cord and tire bead quality wire rod that comport with the specifications, definitions, and applications set forth in Commerce's revised scope language (see, for example, Commerce's final determination of sales at LTFV concerning Canada, 67 FR 55782, August 30, 2002). All products meeting the physical description of subject merchandise that are not specifically excluded are included in the scope of these investigations. The subject merchandise is provided for in HTS subheadings 7213.91, 7213.99, 7227.20, and 7227.90.60.

³ Chairman Deanna Tanner Okun determines that an industry in the United States is not materially injured or threatened with material injury, and the establishment of an industry in the United States is not materially retarded, by reason of imports from Trinidad and Tobago of carbon and certain alloy steel wire rod that have been found by Commerce to be sold in the United States at LTFV.

⁴ Commissioner Lynn M. Bragg determines that an industry in the United States is threatened with material injury by reason of imports from Germany of carbon and certain alloy steel wire rod that have been found by Commerce to be subsidized by the Government of Germany and sold in the United States at LTFV.

⁵ Commissioner Lynn M. Bragg makes affirmative determinations with regard to critical circumstances in the investigations concerning Germany, Moldova, and Ukraine.

Background

The Commission instituted these investigations effective August 31, 2001, following receipt of petitions filed with the Commission and Commerce by counsel on behalf of Co-Steel Raritan, Inc., Perth Amboy, NJ; GS Industries, Inc., Charlotte, NC; Keystone Consolidated Industries, Inc., Dallas, TX; and North Star Steel Texas, Inc., Edina, MN. The final phase of the investigations was scheduled by the Commission following notification of preliminary determinations by Commerce that imports of carbon and certain alloy steel wire rod from Canada and Germany were being subsidized within the meaning of section 703(b) of the Act (19 U.S.C. 1671b(b))⁶ and imports of carbon and certain alloy steel wire rod from Brazil, Canada, Germany, Indonesia, Mexico, Moldova, Trinidad and Tobago, and Ukraine were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of May 2, 2002 (67 FR 22105).⁷ The hearing was held in Washington, DC, on August 27, 2002, and all persons who requested the opportunity were permitted to appear in person or by counsel.

⁶ Although Commerce made a preliminary negative countervailing duty determination with respect to Brazil, it subsequently made a final affirmative countervailing duty determination with respect to that country.

⁷ The Commission's schedule was subsequently revised on May 22, 2002 (67 FR 36022) and on September 12, 2002 (67 FR 57849).

The Commission transmitted its determinations in these investigations to the Secretary of Commerce on October 15, 2002. The views of the Commission are contained in USITC Publication 3546 (October 2002), entitled Carbon and Certain Alloy Steel Wire Rod From Brazil, Canada, Germany, Indonesia, Mexico, Moldova, Trinidad and Tobago, and Ukraine: Investigations Nos. 701-TA-417-419 and 731-TA-953, 954, 956-959, 961, and 962 (Final).

Issued: October 16, 2002.
By order of the Commission.
Marilyn R. Abbott,
Secretary to the Commission.

[FR Doc. 02-27860 Filed 10-31-02; 8:45 am]

BILLING CODE 7020-02-P